DEPARTMENT OF HEALTH AND HUMAN SERVICES

Meeting of the Tick-Borne Disease Working Group

AGENCY: Office of the Assistant Secretary for Health, Office of the Secretary, Department of Health and Human Services.

ACTION: Notice; revision to meeting date.

SUMMARY: The Office of the Assistant Secretary for Health published a notice in the Federal Register on September 16, 2022, concerning a meeting of the Tick-Borne Disease Working Group (TBDWG) that was scheduled to occur on December 7, 2022. This notice is being amended to announce that the meeting has been rescheduled to November 21, 2022. This will be the final TBDWG meeting.

DATES: The meeting date announced in the Federal Register at 87 FR 5693 on September 16, 2022 is amended. The public can view the meeting online via webcast on November 21, 2022 from approximately 10 a.m. to 12 p.m. ET (times are tentative and subject to change). The confirmed times and agenda items for the meeting will be posted on the TBDWG web page at https://www.hhs.gov/ash/advisory-committees/tickbornedisease/meetings/index.html when this information becomes available.

FOR FURTHER INFORMATION CONTACT: James Berger, Designated Federal Officer for the TBDWG; Office of Infectious Disease and HIV/AIDS Policy, Office of the Assistant Secretary for Health, Department of Health and Human Services, Tower Building, 1101 Wootton Parkway, Rockville, MD 20852. Email: tickbornedisease@hhs.gov. Phone: 202-795-7608.

SUPPLEMENTARY INFORMATION: A link to view the webcast can be found on the meeting website at https://www.hhs.gov/ash/advisory-committees/tickbornedisease/meetings/index.html when it becomes available. The public will have an opportunity to present their views to the TBDWG orally during the meeting's public comment session or by submitting a written public comment. Comments should be pertinent to the meeting discussion. Persons who wish to provide verbal or written public comment should review instructions at https://www.hhs.gov/ash/advisory-committees/tickbornedisease/meetings/index.html and respond by midnight November 13, 2022 ET. Verbal comments will be limited to three minutes each to accommodate as many speakers as possible during the 30-minute session. Written public comments will be accessible to the public on the TBDWG web page prior to the meeting.

Dated: October 25, 2022.
James J. Berger,
Designated Federal Officer, Tick-Borne Disease Working Group, Office of Infectious Disease and HIV/AIDS Policy.

[FR Doc. 2022-23989 Filed 11-3-22; 8:45 am]

BILLING CODE 4150-28-P